DEPARTMENT OF AGRICULTURE

Commodity Credit Corporation

Upland Cotton Domestic User/Exporter Agreement

AGENCY: Commodity Credit Corporation, USDA.

ACTION: Notice.

SUMMARY: The purpose of this notice is to advise current and potential Upland Cotton Domestic User/Exporter Agreement (Step 2 Agreement) holders and other interested parties of the implementation and effective date of new payment rates for reginned motes and loose cotton under the program authorized by the Federal Agriculture Improvement and Reform Act of 1996, as amended.

EFFECTIVE DATE: May 5, 2000.

FOR FURTHER INFORMATION CONTACT: Barry Klein, Warehouse and Inventory Division, Farm Service Agency, United States Department of Agriculture, 1400 Independence Avenue, SW, STOP 0553, Washington, DC 20250-0553, telephone (202) 720-4647, or FAX (202) 690-0014, E-Mail: Barry_Klein@wdc.fsa.usda.gov.

SUPPLEMENTARY INFORMATION: Under the current Step 2 Agreement reginned motes are eligible for payments at 40 percent of the full payment rate for baled lint cotton. Loose cotton is currently paid at 75 percent of the full payment rate. Due to unusual current market conditions, the Commodity Credit Corporation, will for reginned motes and loose cotton pay until further notice, 100 percent of the Step 2 payment rate for baled lint cotton. All current Step 2 Agreement holders have received actual notice of this change and were required to return an amended Step 2 Agreement by June 2, 2000, to qualify for these new rates. Interested parties without a current Step 2 Agreement should contact Mr. Klein at the above address. Persons executing a new Step 2 Agreement will receive the new rates applicable to reginned motes and loose cotton. Electronic copies of all current Step 2 dispatches are available on the World Wide Web at www.fsa.usda.gov/daco/step2.

Signed at Washington, DC, on June 6, 2000.
Parks Shackelford,
Acting Executive Vice President, Commodity Credit Corporation.

[FR Doc. 00-14927 Filed 6-13-00; 8:45 am]

BILLING CODE 3410-05-P